DEPARTMENT OF TRANSPORTATION

Federal Aviation Administration

Notice of Meeting on Section 1115 of the FAA Reauthorization Act of 2024

AGENCY: Federal Aviation Administration (FAA), DOT.

ACTION: Notice of meeting.

SUMMARY: The Federal Aviation Administration (FAA) announces a virtual meeting regarding the identification of potential scheduling conflicts pursuant to section 1115 of the FAA Reauthorization Act of 2024. This meeting is open to all representatives of FAA-approved air shows, the general aviation community, stadiums and other large outdoor events and venues or organizations that run such events, the Department of Homeland Security, and the Department of Justice. The goal of this meeting is to identify potential scheduling conflicts so the FAA can develop appropriate operational and communication procedures to ensure the safety and security of both events.

DATES: The FAA will hold this virtual meeting on Tuesday, June 24, 2025, beginning at 1 p.m. (Eastern Time), and the meeting will continue until adjourned by FAA's Rules and Regulations Group. The FAA must receive requests to attend no later than Tuesday, June 17, 2025.

FOR FURTHER INFORMATION CONTACT: Brian Konie, Acting Manager, Airspace Rules and Regulations, email: 9-ajo-airspaceandrules@faa.gov; mail: Federal Aviation Administration, 600 Independence Avenue SW, Washington, DC 20597; or telephone: (202) 267-8783.

SUPPLEMENTARY INFORMATION:

Format: The meeting will be held virtually on Zoom.

Background: Section 1115 of the FAA Reauthorization Act of 2024 (Pub. L. 118-63, May 16, 2024) requires the Administrator to conduct an annual meeting to identify scheduling conflicts between FAA-approved airshows and large outdoor events and venues where flight restrictions will be imposed pursuant to section 521 of division F of the Consolidated Appropriations Act, 2004 (49 U.S.C. 40103 note) or any other restriction will be imposed pursuant to FAA Flight Data Center Notice to Airmen 4/3621 (or any successor notice to airmen). The purpose of the meeting is to bring together representatives of FAA-approved air shows, the general aviation community, stadiums and other large outdoor events and venues or organizations that run such events, the Department of Homeland Security, and the Department of Justice. If a scheduling conflict is identified, the FAA plans to use that information to develop appropriate operational and communication procedures to ensure the safety and security of both events.

Meeting Procedures:

(a) Registration: To attend the meeting, send requests to Brian Konie, Acting Manager, Airspace Rules and Regulations via email (preferred) at 9-ajo-airspaceandrules@faa.gov no later than Tuesday, June 17, 2025.

(b) The meeting will be open to all persons on a space-available basis. There will be no admission fee or other charge to attend or participate. One or more representatives of the FAA's Rules and Regulations Group will conduct the meeting.

(c) The FAA will email registrants the meeting access information in a timely manner prior to the start of the meetings.

(d) Each participant will be given an opportunity to deliver comments in support of identifying potential scheduling conflicts, although a time limit may be imposed to accommodate all participants during the meeting. As the development of appropriate operational and communication procedures to ensure for the safety and security of both events will occur as a follow-on action at a local level, the FAA will limit comments to only those that support the identification of potential scheduling conflicts.

(e) Each person wishing to make a presentation will be asked to note their intent when registering for the meeting so those time frames can be established. This meeting will not be adjourned until everyone registered to speak has had an opportunity to address the panel. This meeting may be adjourned at any time if all persons present have had an opportunity to speak.

(f) The FAA will accept material relating to the substance of the meeting. Participants submitting materials should send them to the email (preferred) or mailing addresses noted in the FOR FURTHER INFORMATION CONTACT section no later than Tuesday, June 17, 2025.

Issued in Washington, DC, on May 21, 2025.
Brian Eric Konie,
Manager (A), Airspace Rules and Regulations.

[FR Doc. 2025-09450 Filed 5-28-25; 8:45 am]

BILLING CODE 4910-13-P